DEPARTMENT OF COMMERCE

International Trade Administration

Application for Duty-Free Entry of Scientific Instruments

Pursuant to Section 6(c) of the Educational, Scientific and Cultural Materials Importation Act of 1966 (Pub. L. 89-651; as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce 14th and Constitution Ave., NW, Room 2104 Washington, D.C. 20230. Applications may be examined between 8:30 A.M. and 5:00 P.M. in Room 2104, U.S. Department of Commerce.

Docket Number: 08-040. Applicant: New Mexico Institute of Mining and Technology; Magdalena Ridge Observatory, 801 Leroy Place, Socorro, New Mexico 87801. Instrument: Unit Telescope. Manufacturer: Advanced Mechanical and Optical Systems SA (AMOS), Belgium. Intended Use: The instrument is intended to be used to study star formation and the earliest stages of planet formation, fundamental astrophysical phenomena like mass accretion, mass transfer and convection in single and binary star systems, and the surroundings of the centers of nearby galaxies. These phenomena will be studied at optical and near infrared wavelengths from about 0.5 to 2.5 microns. The instrument must be able to be relocated and the functions of the instrument must be controlled and monitored over a network connection. Another unique feature of this instrument is that it must have an aperture greater than one-meter. Application accepted by Commissioner of Customs: July 25, 2008.

Docket Number: 08-042. Applicant: University of Alabama at Birmingham, 701 South 20th St., Birmingham, AL 35294. Instrument: FIE Vitrobot. Manufacturer: FEI Company, the Netherlands. Intended Use: The instrument is intended to be used to prepare a range of biological samples for imaging by cryo-electron microscopy. Samples to be studied include viruses and virus-related particles, protein complexes, protein-nucleic acid, lipid-containing samples, filamentous structures, subcellular organelles, and entire prokaryotic and eukaryotic cells. A unique feature of this instrument is that it must have a controlled environmental chamber and have the capability of fully automated operation. Application accepted by Commissioner of Customs: August 12, 2008.

Dated: September 4, 2008.
Faye Robinson,
Director, Statutory Import Programs Staff, Import Administration.

[FR Doc. E8-21000 Filed 9-9-08; 8:45 am]

BILLING CODE 3510-DS-S